INTERNATIONAL TRADE COMMISSION

[Investigation No. 337-TA-1312]

Certain Mobile Electronic Devices; Notice of Commission Decision Not To Review an Initial Determination Terminating the Investigation in its Entirety Based on Withdrawal of the Complaint

AGENCY: International Trade Commission.

ACTION: Notice.

SUMMARY: Notice is hereby given that the U.S. International Trade Commission has determined not to review an initial determination (“ID”) (Order No. 10) of the presiding administrative law judge (“ALJ”) terminating the investigation in its entirety based on withdrawal of the complaint. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On May 4, 2022, the Commission instituted this investigation under section 337 of the Tariff Act of 1930, as amended, 19 U.S.C. 1337 (“section 337”), based on a complaint filed by Maxell, Ltd. of Kyoto, Japan (“Maxell” or “Complainant”). See 87 FR 26373-74 (May 4, 2022). The complaint, as supplemented, alleges a violation of section 337 based upon the importation into the United States, the sale for importation, and the sale within the United States after importation of certain mobile electronic devices by reason of infringement of certain claims of U.S. Patent Nos. 7,199,821; 7,324,487; 8,170,394; 8,982,086; 10,129,590; and 10,244,284. The notice of investigation names Lenovo Group Ltd. of Beijing, China; Lenovo (United States) Inc. (“Lenovo US”) of Morrisville, North Carolina; and Motorola Mobility LLC of Libertyville, Illinois (collectively, “Respondents”), as respondents in the investigation. See id. The Office of Unfair Import Investigations is also a party to the investigation. See id.

On July 14, 2022, the Commission determined not to review an ID (Order No. 5) granting in part Complainant's motion to amend the complaint and notice of investigation. See Order No. 5 (June 14, 2022), unreviewed by Commission Notice (July 14, 2022). Specifically, Order No. 5 grants the motion with respect to Complainant's request to withdraw the assertions in the complaint regarding Complainant's reliance on its licensee Apple Inc.'s domestic activities to satisfy the domestic industry requirement. Order No. 5 also grants Complainant's request to amend the complaint and notice of investigation to include Lenovo-branded products in the plain-language description of the accused products. Order No. 5, however, denies Complainant's request to amend the complaint to permit Complainant to rely upon Lenovo US's domestic activities to establish the domestic industry requirement.

On July 18, 2022, Complainant filed a motion to terminate this investigation in its entirety based on withdrawal of the complaint, contingent upon the Commission instituting an investigation based on its own separate complaint filed in Certain Mobile Electronic Devices, Dkt. No. 337-3625. On July 25, 2022, Respondents filed a response partially opposing the motion with respect to Complainant's asserted contingency. On July 27, 2022, Complainant filed a reply in support of its motion.

On August 16, 2022, the Commission issued a notice of institution of Investigation No. 337-TA-1324 based on the complaint filed in Certain Mobile Electronic Devices, Dkt. No. 337-3625. See 87 FR 51445-46 (Aug. 22, 2022). In view of the issuance of the Commission's notice, on August 17, 2022, Respondents filed a notice withdrawing their partial opposition with respect to Complainant's asserted contingency.

On August 19, 2022, the ALJ issued the subject ID (Order No. 10) granting Complainant's motion to terminate this investigation based on complaint withdrawal. The ID finds that the motion complies with the Commission Rules. See ID at 2-3. In accordance with Commission Rule 210.21(a), 19 CFR 210.21(a), Complainant represents that “there are no agreements, written or oral, express or implied, between Maxell and the Respondents concerning the subject matter of this investigation.” See id. at 3. In addition, the ID finds “no extraordinary circumstances that would justify denying termination of this investigation based on withdrawal of the Complaint.” See id. After the issuance of Order No. 10, Investigation No. 337-TA-1324 was instituted upon publication of the notice of investigation in the Federal Register on August 22, 2022. See 87 FR 51445-46 (Aug. 22, 2022).

No petition for review of the subject ID was filed.

The Commission has determined not to review the subject ID. The investigation is terminated.

The Commission's vote for this determination took place on September 19, 2022.

The authority for the Commission's determination is contained in section 337 of the Tariff Act of 1930, as amended (19 U.S.C. 1337), and in part 210 of the Commission's Rules of Practice and Procedure (19 CFR part 210).

By order of the Commission.
Issued: September 19, 2022.
Katherine Hiner,
Acting Secretary to the Commission.

[FR Doc. 2022-20575 Filed 9-22-22; 8:45 am]

BILLING CODE 7020-02-P